DEPARTMENT OF ENERGY

Federal Energy Regulatory Commission

[Docket No. CP16-480-000]

Annova LNG Common Infrastructure, LLC, Annova LNG Brownsville A, LLC, Annova LNG Brownsville B, LLC, Annova LNG Brownsville C, LLC; Notice of Availability of the Final Environmental Impact Statement for the Proposed Annova LNG Brownsville Project

The staff of the Federal Energy Regulatory Commission (FERC or Commission) has prepared a final environmental impact statement (EIS) for the Annova LNG Brownsville Project (referred to as the Annova LNG Project, or Project). Annova LNG Common Infrastructure LLC, Annova LNG Brownsville A LLC, Annova LNG Brownsville B LLC, and Annova LNG Brownsville C, LLC (collectively referred to as Annova LNG) request authorization to site, construct, and operate liquefied natural gas (LNG) export facilities on the Brownsville Ship Channel in Cameron County, Texas. The Project would include a new LNG export terminal capable of producing up to 6.95 million metric tons per year of LNG for export. The LNG terminal would receive natural gas to the export facilities from a third party intrastate pipeline.

The final EIS assesses the potential environmental effects of the construction and operation of the Project in accordance with the requirements of the National Environmental Policy Act (NEPA). The FERC staff concludes that approval of the Project would result in adverse environmental impacts. With the mitigation measures recommended in the EIS and Annova's proposed mitigation measures, most impacts in the Project area would be avoided or minimized and would not be significant. However, the Project would have significant construction noise impacts during the six months of nighttime pile-driving. In addition, the Annova LNG Project combined with other projects within the geographic scope, including the Texas LNG and Rio Grande LNG Projects, would contribute to potential significant cumulative impacts from construction noise during nighttime pile-driving, sediment/turbidity and shoreline erosion within the Brownsville Ship Channel during operations from vessel transits; on the federally listed ocelot and jaguarundi from habitat loss in combination with past actions and potential for increased vehicular strikes during construction; on the federally listed aplomado falcon from habitat loss in combination with past actions; and on visual resources from the presence of aboveground structures. Construction and operation of the Project would result in mostly temporary or short-term environmental impacts; however, some long-term and permanent environmental impacts would occur.

The U.S. Army Corps of Engineers; U.S. Coast Guard; U.S. Department of Transportation; U.S. Environmental Protection Agency; U.S. Fish and Wildlife Service; National Parks Service; the National Oceanic and Atmospheric Administration, National Marine Fisheries Service; Federal Aviation Administration; and U.S. Department of Energy participated as cooperating agencies in the preparation of the EIS. Cooperating agencies have jurisdiction by law or special expertise with respect to resources potentially affected by the proposal and participate in the NEPA analysis.

The final EIS addresses the potential environmental effects of the construction and operation of the following Project facilities:

• Pipeline meter station;

• natural gas pretreatment and liquefaction facilities;

• two LNG storage tanks;

• marine and LNG transfer facilities;

• control room, administration/maintenance building;

• site access road; and

• utilities (power, water, and communication systems).

The Commission mailed a copy of the Notice of Availability to federal, state, and local government representatives and agencies; elected officials; environmental and public interest groups; Native American tribes; potentially affected landowners and other interested individuals and groups; and newspapers and libraries in the Project area. The final EIS is only available in electronic format. It may be viewed and downloaded from the FERC's website (www.ferc.gov), on the Environmental Documents page (https://www.ferc.gov/industries/gas/enviro/eis.asp). In addition, the final EIS may be accessed by using the eLibrary link on the FERC's website. Click on the eLibrary link (https://www.ferc.gov/docs-filing/elibrary.asp), click on General Search, and enter the docket number in the Docket Number field, excluding the last three digits (i.e., CP16-480). Be sure you have selected an appropriate date range. For assistance, please contact FERC Online Support at FercOnlineSupport@ferc.gov or toll free at (866) 208-3676, or for TTY, contact (202) 502-8659.

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: April 19, 2019.
Kimberly D. Bose,
Secretary.

[FR Doc. 2019-08380 Filed 4-25-19; 8:45 am]

BILLING CODE 6717-01-P